DEPARTMENT OF TRANSPORTATION

Federal Railroad Administration

[Docket Number FRA-2011-0002]

Petition for Waiver of Compliance

Under part 211 of Title 49 Code of Federal Regulations (CFR), this provides the public notice that on September 27, 2017, CSX Transportation, Inc. (CSX) petitioned the Federal Railroad Administration (FRA) for a waiver of compliance from certain provisions of the Federal railroad safety regulations contained at Title 49 Code of Federal Regulations (CFR) part 231. FRA assigned the petition Docket Number FRA-2011-0002.

CSX is requesting a five-year renewal of its waiver to operate RailRunner® Equipment. The original relief was granted under this docket on December 20, 2011. CSX allowed the relief to expire on December 20, 2016, due to lack of business opportunities. Granting this request would give CSX approval to operate RailRunner® equipment in stand-alone dedicated RailRunner®-only trains, and the operation of RailRunner® equipment commingled with RoadRailer® trains/equipment. CSX has not operated RailRunner® equipment in any capacity to date, but is requesting renewal of this waiver should an operations opportunity be presented. In order to operate RailRunner® equipment, CSX seeks relief from provisions of the Railroad Safety Appliance Standards in 49 CFR part 231 that stipulate the number, location, and dimensions for handholds, ladders, sill steps, uncoupling levers, and handbrakes. CSX also seeks relief from 49 CFR 231.1, which sets the standard height for drawbars. CSX states that this relief is necessary to allow it to operate and commingle the RoadRailer® and RailRunner® equipment on dedicated trains. A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received December 18, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC, on October 26, 2017.
John K. Alexy,
Director, Office of Safety Analysis.

[FR Doc. 2017-23841 Filed 11-1-17; 8:45 am]

BILLING CODE 4910-06-P